DEPARTMENT OF COMMERCE

International Trade Administration

[A-533-824]

Polyethylene Terephthalate Film, Sheet and Strip From India: Partial Rescission of Antidumping Duty Administrative Review; 2011-2012

AGENCY: Import Administration, International Trade Administration, Department of Commerce.

DATES: Effective Date: January 11, 2013.

FOR FURTHER INFORMATION CONTACT: Toni Page, Import Administration, International Trade Administration, U.S. Department of Commerce, 14th Street and Constitution Avenue NW., Washington, DC 20230; telephone: (202) 482-1398.

Background

On July 2, 2012, the Department of Commerce (Department) published a notice of opportunity to request an administrative review of the antidumping duty (AD) order on polyethylene terephthalate film, sheet and strip from India covering the period July 1, 2011, through June 30, 2012.¹ The Department received a timely request from Petitioners ² for an AD administrative review of five companies: Ester Industries Limited (Ester), Garware Polyester Ltd. (Garware), Polyplex Corporation Ltd. (Polyplex), SRF Limited (SRF), and Jindal Poly Films Limited of India (Jindal).³ In addition, the Department received timely requests for an AD review from SRF and Jindal.⁴ On August 30, 2012, the Department published a notice of initiation of administrative review with respect to Ester, Garware, Jindal, Polyplex, and SRF.⁵ On September 26, 2012, one of the petitioners (DuPont Teijin Films) withdrew its request for an AD administrative review of all the companies for which reviews were initiated.⁶ Finally, on November 30, 2012, the remaining petitioners (Mitsubishi Polyester Film, Inc., SKC, Inc., and Toray Plastics (America), Inc.) submitted a withdrawal request for Ester and Garware only.⁷

¹ See Antidumping or Countervailing Duty Order, Finding, or Suspended Investigation; Opportunity To Request Administrative Review, 77 FR 39216, 39217 (July 2, 2012).

² Petitioners are DuPont Teijin Films, Mitsubishi Polyester Film, Inc., SKC, Inc., and Toray Plastics (America), Inc.

³ See Polyethylene Terephthalate (PET) Film, Sheet, and Strip from India: Request for Antidumping Duty Administrative Review: Petitioners' Request for an Administrative Review (July 31, 2012).

⁴ See Polyethylene Terephthalate (PET) Film from India/Request for Antidumping Admin Review/Jindal Poly Films Limited (July 30, 2012) and Polyethylene Terephthalate (PET) Film from India/Request for Antidumping Admin Review/SRF Limited (July 30, 2012).

⁵ See Initiation of Antidumping and Countervailing Duty Administrative Reviews and Requests for Revocation in Part, 77 FR 52688 (August 30, 2012).

⁶ See Polyethylene Terephthalate (PET) Film, Sheet, and Strip from India: Withdrawal of DuPont Teijin Films' Request for Antidumping Duty Administrative Review (September 26, 2012).

⁷ See Polyethylene Terephthalate (PET) Film, Sheet, and Strip from India: Partial Withdrawal of Request for Antidumping Duty Administrative Review (November 30, 2012).

Rescission, in Part

Pursuant to 19 CFR 351.213(d)(1), the Secretary will rescind an administrative review, in whole or in part, if a party that requested the review withdraws the request within 90 days of the date of publication of the notice of initiation of the requested review. Petitioners' September 26, 2012, and November 30, 2012, withdrawal requests were submitted within the 90-day period and thus are timely.⁸ Because Petitioners' withdrawals of their requests for review are timely and because no other party requested a review of Ester and Garware, we are rescinding this review with respect to these companies, in accordance with 19 CFR 351.213(d)(1). The requests from Mitsubishi Polyester Film, Inc., SKC, Inc., and Toray Plastics (America), Inc. for an administrative review of Jindal, Polyplex, and SRF have not been withdrawn. As such, we are not rescinding the review with respect to these three companies. For the review, the Department will proceed with individual examination of the two previously selected mandatory respondents, Jindal and SRF.

⁸ The 90th day fell on November 28, 2012; however, as explained in the memorandum from the Assistant Secretary for Import Administration, the Department has exercised its discretion to toll deadlines for the duration of the closure of the Federal Government from October 29, through October 30, 2012. Thus, all deadlines in this segment of the proceeding have been extended by two days. The revised deadline for filing a withdrawal request was November 30, 2012. See Memorandum to the Record from Paul Piquado, Assistant Secretary for Import Administration, regarding “Tolling of Administrative Deadlines As a Result of the Government Closure During Hurricane Sandy” (October 31, 2012).

Assessment

The Department will instruct U.S. Customs and Border Protection (CBP) to assess ADs on all appropriate entries. Subject merchandise of Ester and Garware will be assessed ADs at rates equal to the cash deposit of estimated ADs required at the time of entry, or withdrawal from warehouse, for consumption, in accordance with 19 CFR 351.212(c)(1)(i). The Department intends to issue assessment instructions to CBP 15 days after the date of publication of this notice.

Notification to Importers

This notice serves as a final reminder to importers for whom this review is being rescinded, as of the publication date of this notice, of their responsibility under 19 CFR 351.402(f)(2) to file a certificate regarding the reimbursement of ADs prior to liquidation of the relevant entries during this review period. Failure to comply with this requirement could result in the Secretary's presumption that reimbursement of the ADs occurred and the subsequent assessment of double ADs.

Notification Regarding Administrative Protective Orders

This notice also serves as a final reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: January 7, 2013.
Christian Marsh,
Deputy Assistant Secretary for Antidumping and Countervailing Duty Operations.

[FR Doc. 2013-00469 Filed 1-10-13; 8:45 am]

BILLING CODE 3510-DS-P